OFFICE OF SCIENCE AND TECHNOLOGY POLICY

Notice of Release of Planning Document for the U.S. Ocean Research Priorities Plan; Request for Public Comment

ACTION: Notice of release of planning document for the U.S. Ocean Research Priorities Plan and Request for Public Comment.

SUMMARY: This notice announces the release of the planning document for the U.S. Ocean Research Priorities Plan and Request for Public Comment by the National Science and Technology Council's (NSTC) Joint Subcommittee on Ocean Science and Technology (JSOST). This planning document was prepared to serve as a basis for discussion of theme priorities in the development of the Ocean Research Priorities Plan.

Dates and Addresses: The planning document for the development of the U.S. Ocean Research Priorities Plan is now available for public review and can be accessed at http://ocean.ceq.gov/about/docs/jsost_orpp_plandoc.pdf. Comments on the development of the U.S. Ocean Research Priorities Plan must be received by the National Science and Technology Council's Joint Subcommittee on Ocean Science and Technology no later than the close of business on Monday, May 15, 2006 (45 days).

Address for comments: Only electronic (e-mail) comments will be accepted. Individuals who wish to provide comments should refer to the guidelines for comment submission available at http://ocean.ceq.gov/about/sup_jsost_public_comment.html. Comments should be sent to: public-comment@jsost.org.

FOR FURTHER INFORMATION CONTACT: For information regarding this notice, please contact Shelby Walker, Joint Subcommittee on Ocean Science and Technology, CCSP/USGCRP Office, 1717 Pennsylvania Ave., Suite 250, Washington, DC 20006. Telephone: (202) 419-3464. E-mail: swalker@usgcrp.gov.

SUPPLEMENTARY INFORMATION: As part of the reformulation of ocean policy, the U.S. Ocean Action Plan (OAP) developed a governance structure that coordinates the tasks and goals of all of the Federal agencies involved in ocean science and management. This multi-tiered governance structure has the goal of advancing ocean science and use in an integrated and productive manner. To that end, the JSOST, as directed by the OAP and governed by the Committee on Ocean Policy (COP), the NSTC, and the Interagency Committee on Ocean Science and Resource Management Integration (ICOSRMI), will develop an Ocean Research Priorities Plan. The goal of the Ocean Research Priorities Plan is to formulate the priorities for ocean science and technology initiatives across the wide scope of societal interests. The Ocean Research Priorities Plan will subsequently be complemented by the Ocean Research Priorities Implementation Strategy that will define the fundamental principles for guiding actions and programs in support of the research priorities. A framework for the Ocean Research Priorities Plan was developed by the JSOST and approved by the ICOSRMI in April 2005. This framework consists of: Vision; Challenges; Principles and Critical Elements; Themes; Goals; Resources; and Evaluating Performance.

Central to the Ocean Research Priorities Plan was the identification of specific themes that would incorporate the scope of the use, impact, and interaction of the ocean, coasts, and Great Lakes with society. These themes were:

1. Enhancing human health.

2. Improving ecosystem health.

3. Sustaining natural resources.

4. Promoting marine operations.

5. The ocean's role in climate change and variability.

6. Mitigating effects of natural hazards.

7. Improving quality of life.

In addition, several elements cut across all of these themes and were identified as cross-cutting themes. They include:

1. Basic understanding of the ocean.

2. Research support through ocean observations and infrastructure.

3. Expanded ocean education.

With the framework and the initial description of the themes as planning materials, the NSTC JSOST now seeks input and comment from all relevant communities. This planning document is intended to serve as a foundation for discussion and community input during the public comment period, and associated public workshop in Denver, Colorado on April 17-20, 2006. The expectation is that public comments will help prioritize among the short-term and long-term opportunities available within the ocean sciences research field, which will in turn inform the development of the Ocean Research Priorities Plan. Additional information on the development of the Ocean Research Priorities Plan, the public comment period, and the public workshop is available at: http://ocean.ceq.gov/about/sup_jsost_prioritiesplan.html.

M. David Hodge,
Operations Manager.

[FR Doc. 06-3396 Filed 4-7-06; 8:45 am]

BILLING CODE 3170-W4-P